FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012487-001.

Title: Eastern Car Liner Ltd/Austral Asia Line Pte. Ltd Space Charter Agreement.

Parties: Eastern Car Liner, Ltd. and Austral Asia Line Pte Ltd.

Filing Party: Paul Coleman; Hoppel, Mayer & Coleman; 1050 Connnecticut Avenue NW., 5th Floor, Washington, DC 20036.

Synopsis: The amendment clarifies the geographic scope of the Agreement.

By Order of the Federal Maritime Commission.
Dated: September 15, 2017.
Rachel E. Dickon,
Assistant Secretary.

[FR Doc. 2017-20040 Filed 9-19-17; 8:45 am]

BILLING CODE 6731-AA-P